U.S. ELECTION ASSISTANCE COMMISSION

Information Collection; Study of the Feasibility and Advisability of Establishing a Program of Free Return or Reduced Postage for Absentee Ballots—Survey of Registered Voters

AGENCY: U.S. Election Assistance Commission (EAC).

ACTION: Notice; request for comments.

SUMMARY: The EAC, as part of its continuing effort to reduce paperwork and respondent burden in accordance with the Paperwork Reduction Act of 1995, invites the general public and other Federal agencies to take this opportunity to comment on a proposed information collection. Comments are invited on: (a) Whether the proposed collection of information is necessary for the proper performance of the functions of the agency, including whether the information shall have practical utility; (b) the accuracy of the agency's estimate of the burden of the proposed information collection, including the validity of the methodology and assumptions used; (c) ways to enhance the quality, utility, and clarity of the information to be collected; and (d) ways to minimize the burden of the information collection on respondents. Comments submitted in response to this notice will be summarized and/or included in the request for OMB approval of this information collection; they also will become a matter of public record.

DATES: Written comments must be submitted on or before March 23, 2007.

ADDRESSES: Submit comments and recommendations on the proposed information collection in writing to the U.S. Election Assistance Commission, 1225 New York Avenue, NW., Suite 1100, Washington, DC 20005, ATTN: Ms. Laiza N. Otero (or via the Internet at lotero@eac.gov).

FOR FURTHER INFORMATION CONTACT: To request more information on this proposed information collection or to obtain a copy of the Focus Group Discussion Guide, please, write to the above address or call Ms. Laiza N. Otero at (202) 566-3100. You may also view the proposed collection instrument by visiting our Web site at www.eac.gov.

SUPPLEMENTARY INFORMATION: Title and OMB Number: Study of the Feasibility and Advisability of Establishing a Program of Free Return or Reduced Postage for Absentee Ballots—Survey of Registered Voters.

OMB Number: Pending.

Type of Review: Regular submission.

Needs and Uses: Sec. 246 of the Help America Vote Act requires the Election Assistance Commission (EAC), in consultation with the United States Postal Service, to conduct a study on the feasibility and advisability of establishing a program under which the U.S. Postal Service shall waive or otherwise reduce the amount of postage applicable with respect to absentee ballots returned by voters in general elections for Federal office. This study does not address the cost to the U.S. Postal Service for free postage for sending absentee ballots but may consider costs to election officials that are related to implementing such a program including the costs of sending absentee ballots to voters. It also does not include consideration of the 39 U.S.C. 3406 provisions for the mailing of balloting materials for military and overseas absentee voters. As part of the study, the Commission is directed to conduct a survey of potential beneficiaries, including the elderly and disabled, and to take into account the results of this survey in determining the feasibility and advisability of establishing such a program. At the conclusion of the study effort, EAC is required to submit a report to Congress with recommendations for such legislative and administrative action as EAC determines appropriate. The report shall contain an analysis of the feasibility of implementing such a program and an estimate of the costs.

Affected Public: Citizens.

Estimated Number of Respondents: 1,200.

Responses per Respondent: 1.

Estimated Burden per Response: .25 hours.

Estimated Total Annual Burden Hours: 300 hours.

Information will be collected through a survey of U.S. citizens to determine the possible effect that a free and/or reduced cost absentee ballot postage program would have on voter participation. The sample will be designed in such a way so as to afford analysis of the results according to significant sub-groups including those living in states with high versus low rates of absentee voting and states with restrictive versus states with laws favoring absentee voting. The surveys will be representative of the U.S. population and will be conducted by phone using random digit dialing (RDD) technology. Within each contacted household, a respondent will be selected among all adults in the household aged 18 years and older. The following information will be requested from each respondent:

1. Background Information

The survey will gather data regarding each respondent's background. Background information will include, the respondent's location (state, county, and zip code), the location of the respondent's voter registration (state, county, zip code), age, ethnicity, education, income bracket, whether the respondent is living with a disability, whether the respondent was displaced due to a natural disaster, and whether the respondent is currently an active-duty member of the armed forces (or a dependent thereof).

2. Voting Information

The survey will gather date regarding the respondent's voting history. Voting information will include, registration status, whether the respondent voted in the 2006 Congressional election, whether the respondent voted in the 2004 Presidential election, whether the respondent voted in the 2000 Presidential election, how the respondent voted in past elections (in person, by mail, absentee), whether the respondent is eligible to vote absentee (or whether the respondent does not know).

3. Program Effect

The survey will gather data from all respondents regarding the various effects that the establishment of this program would have on the targeted citizens. Questions on the program will cover (1) whether the program will increase the likelihood that the respondent would use the absentee ballot process; (2) whether the program will increase the likelihood that the respondent would vote in a federal election; (3) whether the program will make it easier for the voter to participate in elections.

This study is further being supplemented with information collected through a series of three focus groups comprised of potential beneficiaries of a free and/or discounted absentee ballot postage program. Information about the focus groups' information collection can be found at www.eac.gov and the Federal Register (Vol. 71, No. 219, Page 66321).

Thomas R. Wilkey,
Executive Director, U.S. Election Assistance Commission.

[FR Doc. 07-261 Filed 1-22-07; 8:45 am]

BILLING CODE 6820-KF-M